RAILROAD RETIREMENT BOARD

20 CFR Part 220

RIN 3220-AB42

Determining Disability

AGENCY: Railroad Retirement Board.

ACTION: Final rule.

SUMMARY: The Railroad Retirement Board (Board) hereby amends its disability regulations to discontinue the current policy of conducting continuing disability reviews (CDR's) for medical recovery of disability annuitants in medical improvement not expected (MINE) cases. The Board has found that these reviews have not been cost effective and impose an unnecessary burden on the annuitant.

EFFECTIVE DATE: This rule will be effective May 17, 2000.

ADDRESSES: Secretary to the Board, Railroad Retirement Board, 844 North Rush Street, Chicago, Illinois 60611.

FOR FURTHER INFORMATION CONTACT: Marguerite P. Dadabo, Senior Attorney, (312) 751-4945, TDD (312) 751-4701.

SUPPLEMENTARY INFORMATION: The Board conducts continuing disability reviews (CDRs) to determine whether or not a disability annuitant continues to meet the disability requirements contained in the Railroad Retirement Act and, in some cases, the Social Security Act. Payment of cash benefits based on disability ends if the medical or other evidence shows that the annuitant is no longer disabled under the standards set out in the Railroad Retirement Act or, for some benefits, the Social Security Act. Section 220.186 of the regulations of the Board provides when and how often the Board will conduct a CDR. This rulemaking would amend § 220.186(d) to discontinue the Board's current policy of conducting a CDR in cases where medical improvement is not expected (MINE). The current regulation requires a review no less frequently than once every 7 years but no more frequently than once every 5 years in MINE cases. The Board's CDR of MINE cases has not proved cost effective. For fiscal years 1995 through 1997 the Board conducted 552 MINE exams; however, in only 1 case did the evidence merit termination of the annuity. For fiscal years 1998 and 1999, 300 MINE reviews were conducted with no annuity terminations. Such results, in the Board's view, do not justify continuation of this program. Consequently, the Board proposes to cease routine continuing disability review in these cases. The cessation will be of routine reviews only. These cases will still be reviewed for continuing eligibility: If the beneficiary returns to work and successfully completes a trial work period; if substantial earnings are posted to the beneficiary's earnings record; or if information is received either from the annuitant or a reliable source that the annuitant has recovered or returned to work, or that a review is otherwise warranted.

The Board published this rule as a proposed rule on November 18, 1999, and invited comments by January 18, 2000. No comments were received. The Board, with the concurrence of the Office of Management and Budget, has determined that this is not a significant regulatory action for purposes of Executive Order 12866. Therefore, no regulatory analysis is required. There are no information collections associated with this rule.

List of Subjects in 20 CFR Part 220.186

Disability benefits, Railroad employees; Railroad retirement.

For the reasons set out in the preamble, the Railroad Retirement Board amends title 20, chapter II, part 220 of the Code of Federal Regulations as follows:

PART 220—DETERMINING DISABILITY

1. The authority citation for part 220 continues to read as follows:

Authority: 45 U.S.C. 231a; 45 U.S.C. 231f.

§ 220.186 When and how often the Board will conduct a continuing disability review. [Amended]

2. In § 220.186, paragraph (b)(2), remove the phrase “(medical improvement possible or medical improvement not expected)”, and paragraph (d), remove the fourth sentence which reads: “If the annuitant's disability is considered permanent, the Board will review the annuitant's continuing eligibility for benefits no less frequently than once every 7 years but no more frequently than once every 5 years.”, and add in its place “If no medical improvement is expected in the annuitant's impairment(s), the Board will not routinely review the annuitant's continuing eligibility.”

Dated: April 6, 2000.
By Authority of the Board.
For the Board.
Beatrice Ezerski,
Secretary to the Board.

[FR Doc. 00-9516 Filed 4-14-00; 8:45 am]

BILLING CODE 7905-01-P